DEPARTMENT OF HEALTH AND HUMAN SERVICES

Administration for Community Living

Agency Information Collection Activities: Proposed Collection; Public Comment Request; of the Office of Healthcare Information and Counseling (OHIC) Profiles at ACL OMB #0985-New

AGENCY: Administration for Community Living, Department of Health and Human Services.

ACTION: Notice.

SUMMARY: The Administration for Community Living (ACL) is announcing an opportunity for the public to comment on the proposed collection of information listed above. Under the Paperwork Reduction Act of 1995 (PRA), Federal agencies are required to publish a notice in the Federal Register concerning each proposed collection of information, including each proposed extension of an existing collection of information, and to allow 60 days for public comment in response to the notice. This is a new information collection request soliciting comments on the information collection requirements relating to the Office of Healthcare Information and Counseling (OHIC) Profiles project at ACL.

DATES: Comments on the collection of information must be submitted electronically by 11:59 p.m. (EST) or postmarked by December 27, 2022.

ADDRESSES: Submit electronic comments on the collection of information to: Amanda Cash, Amanda.Cash@acl.hhs.gov, 202-795-7369. Submit written comments on the collection of information to Administration for Community Living, 330 C Street SW, Washington, DC 20201, Attention: Amanda Cash.

FOR FURTHER INFORMATION CONTACT: Amanda Cash, Amanda.Cash@acl.hhs.gov, 202-795-7369.

SUPPLEMENTARY INFORMATION: Under the PRA (44 U.S.C. 3501-3520), Federal agencies must obtain approval from the Office of Management and Budget (OMB) for each collection of information they conduct or sponsor. “Collection of information” is defined in in the PRA and includes agency requests or requirements that members of the public submit reports, keep records, or provide information to a third party. The PRA requires Federal agencies to provide a 60-day notice in the Federal Register concerning each proposed collection of information, including each proposed extension of an existing collection of information, before submitting the collection to OMB for approval. To comply with this requirement, ACL is publishing a notice of the proposed collection of information set forth in this document. With respect to the following collection of information, ACL invites comments on our burden estimates or any other aspect of this collection of information, including:

(1) whether the proposed collection of information is necessary for the proper performance of ACL's functions, including whether the information will have practical utility;

(2) the accuracy of ACL's estimate of the burden of the proposed collection of information, including the validity of the methodology and assumptions used to determine burden estimates;

(3) ways to enhance the quality, utility, and clarity of the information to be collected; and

(4) ways to minimize the burden of the collection of information on respondents, including through the use of automated collection techniques when appropriate, and other forms of information technology.

The Administration for Community Living (ACL) is currently engaged in an effort to streamline and standardize grantee profiles across three programs managed by the Office of Healthcare Information and Counseling (OHIC): the State Health Insurance Assistance Program (SHIP), Senior Medicare Patrol (SMP), and Medicare Improvements for Patients and Providers Act (MIPPA). Grantees in each program must adhere to a specific set of reporting requirements and associated reporting schedules outlined in their Program Reporting Guidelines. While reporting requirements are effective in ensuring grantees data, there is no consistency or uniformity in how individual grantees submit their data. For example, SHIP profiles currently exist; these profiles are accessible to the SHIP grantee network via the program's technical assistance center, and they can be updated directly by grantee states. SMP and MIPPA profiles have yet to be developed. The goal of this data collection effort is to obtain consistent data elements for the three programs that will allow ACL to reimagine the existing profiles into a comparable set of data elements across programs.

These data will allow RTI International, a contractor to ACL, to develop an updated set of grantee profiles that are accessible, visually appealing, and consistent across programs. Specifically, the purpose of this data collection effort is to update the SHIP grantee profiles, which were last updated in 2016, and develop similar profiles for SMP and MIPPA. These profiles will be internal to ACL and will only be shared with grantees.

A web-based questionnaire will be emailed to all 125 grant managers (representing 54 states and territories) electronically via Smartsheet. The collected data will be imported into a dataset and will be used to create program profiles accessible to ACL and grantees.

The proposed data collection tools may be found on the ACL website for review at: https://www.acl.gov/about-acl/public-input.

Estimated Program Burden

ACL estimates the burden of this collection of information as follows:

A maximum of 125 grantees are expected to respond to the web-based data collection instrument. The approximate burden for pre-data collection preparation is 30 minutes per respondent and approximate burden for form completion is 20 minutes per respondent for a total annual estimate of 103.75 hours. The estimated completion burden includes time to review the instructions, read the questions and complete and responses.

IC Burden Chart
Respondent/data collection activity | Number of respondents | Responses per respondent | Hours per response | Annual burden hours
Pre-data collection preparation | 125 | 1 | 0.5 | 62.5
Web-based data collection | 125 | 1 | 0.33 | 41.25
Total | 125 | 1 | 0.83 | 103.75

Dated: October 21, 2022.
Alison Barkoff,
Acting Administrator and Assistant Secretary for Aging.

[FR Doc. 2022-23364 Filed 10-26-22; 8:45 am]

BILLING CODE 4154-01-P